DEPARTMENT OF THE TREASURY

Internal Revenue Service

Open meeting of the Area 5 Taxpayer Advocacy Panel (Including the States of Iowa, Kansas, Minnesota, Missouri, Nebraska, North Dakota, Oklahoma, South Dakota, and Texas)

AGENCY: Internal Revenue Service (IRS) Treasury.

ACTION: Notice.

SUMMARY: An open meeting of the Area 5 Taxpayer Advocacy Panel will be conducted. The Taxpayer Advocacy Panel is soliciting public comment, ideas, and suggestions on improving customer service at the Internal Revenue Service.

DATES: The meeting will be held Friday, September 12, 2003, from 8 a.m. to 5 p.m., and Saturday, September 13, 2003, from 8 a.m. to Noon at the Renaissance Dallas North Hotel, 4099 Valley View Lane, Dallas, TX 75244.

FOR FURTHER INFORMATION CONTACT: Mary Ann Delzer at 1-888-912-1227, or (414) 297-1604.

SUPPLEMENTARY INFORMATION: Notice is hereby given pursuant to Section 10(a)(2) of the Federal Advisory Committee Act, 5 U.S.C. App. (1988) that an open meeting of the Area 5 Taxpayer Advocacy Panel will be held Friday, September 12, 2003, from 8 a.m. to 5 p.m., and Saturday, September 13, 2003, from 8 a.m. to Noon at the Renaissance Dallas North Hotel, 4099 Valley View Lane, Dallas, TX 75244. You can submit written comments to the panel by faxing to (414) 297-1623, or by mail to Taxpayer Advocacy Panel, Stop1006MIL, 310 West Wisconsin Avenue, Milwaukee, WI 53203-2221. Public comments will also be welcome during the meeting. Please contact Mary Ann Delzer at 1-888-912-1227 or (414) 297-1604 for more information.

The agenda will include the following: Various IRS issues.

Dated: August 8, 2003.
Tersheia Carter,
Acting Director, Taxpayer Advocacy Panel.

[FR Doc. 03-21359 Filed 8-19-03; 8:45 am]

BILLING CODE 4830-01-P